DEPARTMENT OF JUSTICE

Antitrust Division

Notice Pursuant to the National Cooperative Research And Production Act of 1993—IMS Global Learning Consortium, Inc.

Notice is hereby given that, on February 17, 2021, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, 2U, Lanham, MD; Amplify Education, Brooklyn, NY; Atomic Jolt, Millville, UT; Central Piedmont Community College, Charlotte, NC; Click4Europe srl, Cagliari, ITALY; CPALMS, Tallahassee, FL; Darlington County School District, Darlington, SC; Digital Promise, Washington, DC; N2N Services, Duluth, GA; Salesforce.com, Inc., San Francisco, CA; South Orange County Community College District, Mission Viejo, CA; and Territorium, LLC, San Antonio, TX, have been added as parties to this venture.

Also, State University of New York, Albany, NY; Abre, Cincinnati, OH; Purdue University, West Lafayette, IN; itslearning AS, Bergen, NORWAY; Convergence, Inc., Markham, Ontario, CANADA; Grapevine Colleyville ISD, Grapevine, TX; Xtremelabs LLC, Redmond, WA; and Explorance, Montreal, Quebec, CANADA, have withdrawn as parties to this venture. In addition, K12.com changed its name to Stride, Herndon, VA.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on December 3, 2020. A notice was published in the Federal Register pursuant to Section 6(b) of the Act on December 22, 2020 (85 FR 83613).

Suzanne Morris,
Chief, Premerger and Division Statistics, Antitrust Division.

[FR Doc. 2021-04975 Filed 3-9-21; 8:45 am]

BILLING CODE 4410-11-P